DEPARTMENT OF AGRICULTURE

Economic Research Service

Notice of Intent To Request Revision of the Current Population Survey Food Security Supplement—A Currently Approved Information Collection

AGENCY: Economic Research Service, USDA.

ACTION: Notice of change and request for comments.

SUMMARY: In accordance with the Paperwork Reduction Act of 1995 and Office of Management and Budget (OMB) implementing regulations, this notice announces a change that the Economic Research Service (ERS) intends to make to the currently approved annual information collection named the Current Population Survey Food Security Supplement (OMB Control No. 0536-0043). ERS intends to add a split panel test to the aforementioned information collection. Details of the split panel test are discussed in the SUPPLEMENTARY INFORMATION section below.

DATES: Comments on this notice must be received by March 11, 2020 to be assured of consideration.

ADDRESSES: Address all comments concerning this notice to Alisha Coleman-Jensen, Food Assistance Branch, Food Economics Division, Economic Research Service, Room 5-229B, 1400 Independence Ave. SW, Mail Stop 1800, Washington, DC 20050-1800. Submit electronic comments to Alisha.Coleman-Jensen@usda.gov.

FOR FURTHER INFORMATION CONTACT: Alisha Coleman-Jensen at the address in the preamble. Tel. 202-694-5456.

SUPPLEMENTARY INFORMATION: ERS is responsible for conducting studies and evaluations of the Nation's food and nutrition assistance programs that are administered by the Food and Nutrition Service (FNS), U.S. Department of Agriculture. Data collected by its Current Population Survey Food Security Supplement (CPS-FSS) annually are used to monitor the prevalence of food security and the prevalence and severity of food insecurity among the Nation's households. The prevalence of these conditions as well as year-to-year trends in their prevalence is estimated at the national level and for population subgroups. These data are also used to monitor the amounts that households spend for food and their use of community food pantries and emergency kitchens. These statistics along with research based on the data are used to identify the causes and consequences of food insecurity, and to assess the need for, and performance of, domestic food assistance programs. ERS is in the process of revising the survey instrument to maintain its relevance and scientific quality.

The intent of this notice is to announce that ERS intends to add a test of current and revised survey questions (aka split panel test) to the aforementioned information collection in order to determine how well the revised survey questions perform. Results from this test will be used to improve the measurement of food security and determine the most appropriate survey items to collect food security data in regular future collections.

Once receiving the OMB clearance, the U.S. Census Bureau will supplement an upcoming CPS with revised test questions regarding household food shopping, use of food and nutrition assistance programs, food sufficiency, and difficulties in meeting household food needs. Revisions to the supplemental survey instrument was developed in conjunction with food security experts nationwide as well as survey method experts within the Census Bureau. The Census Bureau completed a cognitive interview study of the revised survey questions in 2019, and the recommendations from that study formed the test instrument to be used in the upcoming testing. This supplemental information will be collected by both personal visit and telephone interviews in conjunction with the regular monthly CPS interviewing. Interviews will be conducted using Computer Assisted Personal Interview (CAPI) and Computer Assisted Telephone Interview (CATI) methods.

Public reporting burden for this split panel test is estimated to average 7.3 minutes (after rounding) for each household that responds to the labor force portion of the CPS. The estimate is based on the average proportion of respondents that were asked each question in recent survey years and typical reading and response times for the questions. The estimate assumes an 80 percent response rate to the supplement. Based on these estimates, ERS intends to request a one-time only additional 39,000 respondents and 4,729 hours of response burden for conducting the aforementioned split panel test during its testing year. Copies of this information collection can be obtained from Alisha Coleman-Jensen at the address in the preamble.

Comments: Comments are invited on: (a) Whether the proposed collection of information is necessary for the proper performance of the functions of the Agency, including whether the information will have practical utility; (b) the accuracy of the Agency's estimate of the burden of the proposed collection of information, including the validity of the methodology and assumptions used; (c) ways to enhance the quality, utility, and clarity of the information to be collected; (d) ways to minimize the burden of the collection of information on those who are to respond, including through the use of appropriate automated, electronic, mechanical, or other technological collection techniques or other forms of information technology. Comments should be sent to the address in the preamble. All responses to this notice will be summarized and included in the request for OMB approval. All comments will also become a matter of public record.

Dated: January 28, 2020.
Marca Weinberg,
Acting Administrator, Economic Research Service.

[FR Doc. 2020-02547 Filed 2-7-20; 8:45 am]

BILLING CODE 3410-18-P